DEPARTMENT OF ENERGY

Federal Energy Regulatory Commission

[Docket No. CP02-99-000]

Transcontinental Gas Pipe Line Corporation; Notice of Application

March 13, 2002.

Take notice that on February 28, 2002, Transcontinental Gas Pipe Line Corporation (Transco), 2800 Post Oak Blvd., Houston, Texas 77056, through its agent, Williams Energy Marketing & Trading Company (Williams) (formerly Williams Energy Services Company), One Williams Center, Suite 4100, Tulsa, Oklahoma 74172, tendered for filing an abbreviated application for authority pursuant to sections 7(b) and 7(c) of the Natural Gas Act (NGA) and Part 157 of the Federal Energy Regulatory Commission's Regulations, to abandon a portion of its existing individually certificated Rate Schedule FS service for Eastern Shore Natural Gas Company (Eastern Shore) and to assign a portion of the abandoned Rate Schedule FS service to two customers of Eastern Shore, all as more fully set forth in the application , which is on file and open to public inspection. Transco further asserts that no abandonment of any facility is proposed. The application may be viewed on the Web at www.ferc.gov using the “RIMS” link, select “Docket #” from the RIMS menu and follow the instructions (call (202) 208-2222 for assistance).

Any person desiring to be heard or to protest these filings should file a motion to intervene or protest with the Federal Energy Regulatory Commission, 888 First Street, NE, Washington, DC 20426, by or before April 3, 2002, in accordance with Sections 385.214 and 385.211 of the Commission's Rules and Regulations. Protests will be considered by the Commission in determining the appropriate action to be taken, but will not serve to make Protestants parties to the proceeding. Any person wishing to become a party must file a motion to intervene. Copies of this filing are on file with the Commission and are available for public inspection in the Public reference Room.Comments, protests, and interventions may be filed electronically via the Internet in lieu of paper. See 18 CFR 385.2001(a)(1)(iii) and the instructions on the Commission's Web site under the “e-filing” link.

Any question concerning this application should be directed to Mr. David Richins, Williams Energy Marketing & Trading Company, One Williams Center, Suite 4100, Tulsa, Oklahoma 74172 at (918) 573-1469.

Take notice that, pursuant to the authority contained in and subject to the jurisdiction conferred upon the Commission by sections 7 and 15 of the Natural Gas Act and the Commission's Rules of Practice and Procedure, a hearing will be held without further notice before the Commission on this application if no protest or motion to intervene is filed within the time required herein. At that time, the Commission, on its own review of matter, will determine whether granting the abandonment is required by the public convenience and necessity. If a petition for leave to intervene is timely filed, or if the Commission on its own motion believes that a formal hearing is required, further notice of such hearing will be duly given.

Under the procedure herein provided for, unless otherwise advised, it will be unnecessary for Transco to appear or be represented at the hearing.

Linwood A. Watson, Jr.,
Deputy Secretary.

[FR Doc. 02-6558 Filed 3-18-02; 8:45 am]

BILLING CODE 6717-01-P